DEPARTMENT OF HOUSING AND URBAN DEVELOPMENT

[Docket No. FR-6082-N-01]

Notice of Intent To Prepare an Environmental Impact Statement (EIS) for the Resilient Bridgeport: National Disaster Resilience and Rebuild by Design Projects in the City of Bridgeport, Connecticut

AGENCY: Office of the Assistant Secretary for Community Planning and Development, HUD.

ACTION: Notice of intent to prepare an Environmental Impact Statement (EIS).

SUMMARY: The State of Connecticut, through the Department of Housing (DOH), is providing notice of its intent to prepare an Environmental Impact Statement (EIS) in accordance with the National Environmental Policy Act (NEPA) for the Resilient Bridgeport: National Disaster Resilience and Rebuild By Design (RBD) Projects located in Bridgeport, CT. The proposed project was developed as part of Connecticut's application for assistance through the U.S. Department of Housing and Urban Development (HUD) under the RBD and National Disaster Resilience Competition (NDRC). RBD and NDRC's objectives through the competition are to support innovative resilience projects at a local level. This Notice of Intent to prepare an EIS represents the beginning of the public scoping process. Following the scoping meeting referenced below, a Draft EIS will be prepared and ultimately circulated for public comment.

DATES: Comments on the Draft Scope of Work to prepare a Draft EIS are requested by this notice and will be accepted until March 28, 2018. The scoping meeting will be held on March 14, 2018, from 6 until 9 p.m.

ADDRESSES: The scoping meeting will be held at the Arnold Bernhard Arts & Humanities Center (first floor), located at 84 Iranistan Avenue, Bridgeport, CT 06601. The Draft Scope of Work is available on https://resilientbridgeport.com or http://www.ct.gov/doh/cwp/view.asp?a=4513&q=588726.

FOR FURTHER INFORMATION CONTACT: Further information may be obtained by contacting David Kooris, Director of Resilience, Department of Housing, 505 Hudson Street, Hartford, Connecticut, 06106-7106, or via email at David.Kooris@ct.gov.

SUPPLEMENTARY INFORMATION: Comments on the Draft Scope of Work to prepare a Draft EIS are requested by this notice and will be accepted by the individual named in this notice under the FOR FURTHER INFORMATION CONTACT. Comments will also be accepted at the scoping meeting to be held on March 14, 2018, from 6 until 9 p.m. at the Arnold Bernhard Arts & Humanities Center (first floor), located at 84 Iranistan Avenue, Bridgeport, CT 06601. All comments received by March 28, 2018 will be considered prior to the acceptance, certification, and distribution of the Draft EIS by the Lead Agency (DOH). Commenters are also asked to submit any information related to reports or other environmental studies planned or completed in the project area, major issues that the Draft EIS should consider, and recommend mitigation measures and alternatives associated with the Proposed Action. Federal, State, or local agencies having jurisdiction by law, special expertise, or other special interest should report their interest and indicate their readiness to aid in the EIS effort as Cooperating, Participating, and Interested Agencies. Written requests of individuals and organizations to participate as Section 106 Consulting Parties under the National Historic Preservation Act may also be made to the individual named in this notice under the heading FOR FURTHER INFORMATION CONTACT.

The public and agencies will also be offered an opportunity to comment on the purpose and need, range of alternatives, level of detail, methodologies, and all elements of the Draft Scope of Work through public and agency outreach that will consist of: A public scoping meeting (described below), scheduled Community Advisory Committee and Technical Advisory Committee meetings, a public hearing on the Draft EIS; meetings with the applicable Cooperating, Participating, and Interested Agencies, and meetings with Section 106 Consulting Parties, including federally recognized Indian tribes. Once completed and released, the Draft EIS will be available for public and agency review and comment.

Following the public scoping process, a Draft EIS will be prepared that analyzes the Proposed Action. Once the Draft EIS is certified as complete, a notice will then be sent to appropriate government agencies, groups, and individuals known to have an involvement or interest in the Draft EIS and particularly in the environmental impact issues identified therein. A Notice of Availability of the Draft EIS will be published in local media outlets at that time in accordance with HUD and the Council on Environmental Quality (CEQ) regulations. Any person or agency interested in receiving notice and commenting on the Draft Scope of Work should contact the individual named in this notice under the heading FOR FURTHER INFORMATION CONTACT no later than March 28, 2018.

Background

HUD gives notice that the State of Connecticut (the State), through the DOH, as the “Responsible Entity,” as that term is defined by 24 CFR 58.2(a)(7)(i), has assumed environmental responsibilities for the Resilient Bridgeport: National Disaster Resilience and Rebuild By Design Projects in accordance with 24 CFR 58.1(b)(1). DOH, as the Lead Agency in accordance with the requirements of NEPA, intends to prepare an EIS that will evaluate the environmental and social impacts of alternatives for the construction of flood risk reduction measures within the South End of Bridgeport, Connecticut. Such measures will be designed to reduce the impacts of flooding on the quality of the natural and built environment in the project area due to both sea level rise and storm hazards, including heavy rainfall events and intense coastal storm events. Bridgeport's South End suffers from flood damage from major tidal events and repetitive loss from flooding from rain events and power outages, resulting in a depressed economy, increasing vacancies and continued significant risk from future storm events.

The State is the Grantee of Community Development Block Grant National Disaster Resilience (CDBG-NDR) and RBD funds that have been appropriated under the Disaster Relief Appropriations Act, 2013 (Pub. L. 113-2, approved January 29, 2013) related to disaster relief, long-term recovery, restoration of infrastructure and housing, and economic revitalization in the most impacted and distressed areas resulting from a major disaster that was declared pursuant to the Robert T. Stafford Disaster Relief and Emergency Assistance Act of 1974 (Stafford Act) in calendar years 2011, 2012, and 2013. Receipt of CDBG-NDR and RBD funding requires compliance with NEPA.

The proposed EIS will address the environmental review requirements of NEPA and the Connecticut Environmental Policy Act (CEPA) (CT Gen Stat § 22a, Chapter 439). This Notice of Intent to prepare an EIS is, therefore, being published in accordance with the CEQ regulations found at 40 CFR parts 1500-1508 and HUD regulations found at 24 CFR part 58 and is announcing that a public scoping process on the EIS is commencing.

The CT DOH, under the authority of HUD's regulations at 24 CFR part 58, and in cooperation with other Cooperating, Participating, and Interested Agencies, is proposing to prepare an EIS that will analyze the potential environmental and social effects of alternatives that are being proposed to improve coastal and social resiliency and reduce flood risk to the South End of Bridgeport.

Following the devastation of Hurricane Sandy, HUD launched Rebuild by Design, an innovative design competition that brought together interdisciplinary teams of researchers, designers, engineers, businesses, policy-makers and local groups to craft solutions that communities can implement to help minimize against future climate risks. The State of Connecticut was awarded $10 million in HUD CDBG-DR funding to continue planning for Resilient Bridgeport and construct a first pilot project. Building on the success of Rebuild by Design, in September 2014, HUD launched the $1 billion National Disaster Resilience Competition. The Connecticut application was the highest scoring in the competition and garnered $54 million in HUD CDBG-NDR funding to construct the Resilient Bridgeport pilot project as part of the State's broader Connecticut Connections Coastal Resilience Plan.

The proposed Resilient Bridgeport: NDR & RBD Projects represent the culmination of an integrated and thoughtful process coordinated by the State during Phase 1 and Phase 2 of the National Disaster Resilience Competition application and subsequent community participatory events. DOH consulted in depth with government agencies at municipal and state levels as well as resident stakeholders, small and large business owners, and professional experts. An outgrowth of the Phase 1 and 2 applications and consultations, the Connecticut State Agencies Fostering Resilience (SAFR) Council, is creating a roadmap for long-term resilience planning in coastal and riverine communities damaged during Hurricane Sandy, and working with State agencies to craft policies that equitably promote resilience across the entire State. The $52.5 million Resilient Bridgeport component provides a long-term, holistic approach to resilience, incorporating green and grey stormwater infrastructure improvements, a street raising and street improvements strategy to lift the surrounding development datum, and an integrated flood protection system consisting of an earthen berm and sea walls. This layered approach will protect a vulnerable and disenfranchised community while providing new economic development opportunities, improving mobility, and enhancing quality of life. The EIS will examine several alternatives aimed at achieving these objectives.

Purpose and Need of the Proposed Action

Located on a peninsula, surrounded by the Pequonnock River to the east and Long Island Sound to the south, the South End is one of the most vulnerable communities in Bridgeport, at risk of flooding from both coastal storm surge and regular rainfall events. The area includes Seaside Park, the University of Bridgeport, residences, some industrial buildings, and several energy providers (including both electricity generators and utilities). The area has a population of over 8,000 people including public housing residents and other vulnerable populations.

The peninsula is exposed to storm surge from coastal storms and the risk of such events is increasing due to Sea Level Rise. During Superstorm Sandy, the area experienced a storm surge of nearly 7 feet above normal high tide, inundating over 200 buildings (including affordable and public housing). With an additional 100 buildings located within the Federal Emergency Management Agency (FEMA) designated 100-year floodplain, these and other infrastructure assets remain vulnerable to future events. In addition to flooded streets and damaged residential properties, residents experienced a loss of electric power after Superstorm Sandy lasting for a period that ranged from a few hours to more than a week. Disruptions to regional supply chains and power interruptions caused serious complications for local industries. Ensuring the continuity of operations at the power district scale is critical to maintaining industrial and commercial functions in the city.

Over the next 50 years, sea levels are expected to rise significantly, which will further compound existing flooding risks in Bridgeport's South End. Much of the critical infrastructure in the area lies within the coastal floodplain, including electricity generation, transmission, and distribution facilities and low lying stormwater and wastewater pipes, and will face increasing risk as sea levels rise.

The low-lying geography of the area, in addition to the old age of the combined sewer and stormwater system, results in flooding from rainfall or tidal inundation on a regular basis. Improving the existing drainage system is important to minimize internal flooding and to manage stormwater in both high and low-frequency storm events.

While proximate to its urban center, the South End area is isolated from the downtown by Interstate 95 and the Northeast Corridor and has been physically cut-off from help by emergency responders (fire, police, medical) and others due to flooding of streets (particularly low-lying underpasses under the highway and railroad) that has prevented vehicles from accessing the area during and after storm events. Repetitive flooding of local streets occurs in the valleys and low-lying areas due to both rainfall runoff and storm surge, making the streets impassable. Portions of the South End lack dry egress for residents, businesses and emergency vehicles when flooding occurs. Minimizing the flooding at roadways leading into and out of the South End is vital to resident egress and emergency evacuation.

The purpose of the Proposed Action is to create a more resilient South End community, support its long-term viability, and improve health and safety for the community's vulnerable populations. The principal targeted outcomes of the Proposed Action are:

• Lower the risk of acute and chronic flooding,

• Provide dry egress during emergencies, and

• Educate the public about flood risks and sea level rise.

The Proposed Action could deliver co-benefits to the community, potentially unlocking development or public realm opportunities, enhancing connectivity between the South End and Downtown Bridgeport, improving existing open space amenities, building up the resilience of local energy systems, and leveraging public investment in ongoing resiliency efforts through coordination with local stakeholders.

Project Alternatives

The EIS will discuss the alternatives that were considered for analysis, identify those that were eliminated from further consideration because they do not meet the stated purpose and need, and identify those that will be analyzed further. It is expected that project alternatives will continue to be developed and refined during the public scoping process, with input from the public, agencies, and other stakeholders. The EIS alternatives analysis will consist of a comparison of the impacts under each alternative pursuant to 24 CFR part 58, in addition to how well each alternative achieves the project's purpose and need. This process, which will be described in detail in the EIS, will lead to the designation of a Preferred Alternative. At this time, it is anticipated that the following alternatives will be analyzed.

1. No Action Alternative

The No Action Alternative represents the status quo or baseline conditions without implementation of any improvements associated with the Proposed Project. The No Action Alternative assumes that the redevelopment of the Marina Village site would progress as planned, Public Service Electric and Gas Company (PSE&G) and United Illuminating Company would continue any planned resiliency projects along the edge of Bridgeport Harbor, the mixed-use development at 60 Main Street would move forward, and a number of other projects would be implemented both within and near the proposed project areas through the 2022 analysis year.

2. Build Alternatives

In addition to the No Action Alternative, the EIS will examine multiple build alternatives. The Build Alternatives will have three parts—Flood Risk Reduction, a Resilience Hub, and Stormwater Improvements and Dry Egress (elements common to all build alternatives).

Flood Risk Reduction. The proposed project would include a combination of measures within eastern South End that would reduce the flood risk within the project area from future coastal surge and chronic rainfall events. The measures may include raised streets, floodwalls, landscaped berms, and both green and grey stormwater and internal drainage management strategies (e.g., detention/retention features, drainage structures, and pump systems). This alternative, to the extent practical, would provide a FEMA Certifiable level of flood protection to a portion of the project area. Different routing alignments and different levels of flood protection are being considered, although all alignments would include elevating a section of University Avenue.

(1) Integrated Alignment. This alignment would be constructed in coordination with key area stakeholders and include raised streets, walls and berms that take into account plans for growth, development and risk reduction taking place within the eastern South End community.

(2) Interior Alignment. The interior alignment would identify a street or streets that could be raised to provide dry egress for future development, provide some reduction in risk from storm events and generate opportunities for storm water management that produce co-benefits for the community.

(3) Edge Alignment. This alignment would be constructed either in-water or along the outer edge of the community along the waterfront.

Resilience Hub. This project would fund a Resilience Hub to serve the South End community in its ongoing commitment to build a resilient Bridgeport. The site would serve as a hub for resilience activities, providing a central location for dissemination of information to the community and assisting the community in future recovery efforts. The Resilience Hub may serve a design center function or operate as a community center.

(1) Resilience Hub Alternative 1 would be a building dedicated to resilience and education. The building would be a space in all or a portion of an existing building or a new building.

(2) Resilience Hub Alternative 2 would be one or more open air sites integrated within the community that are dedicated to resilience and education. The sites would be located within the South End area, adjacent to existing community amenities.

Elements Common To Build Alternatives

All Flood Risk Reduction alignments would include elevating a section of University Avenue. In addition, all build alternatives would include the stormwater management project and extension of Johnson Street at the Marina Village site (identified as a pilot project during the RBD project). Prior to redevelopment of the western parcel (bound by Park Avenue, Iranistan Avenue, Ridge Avenue and South Avenue) an approximately 2.5-acre stormwater park would be constructed to accept water from upland streets and adjacent parcels and to retain, delay and improve the quality of the stormwater runoff. An extension of Johnson Street (between Columbia Street and Iranistan Avenue) would provide a raised egress corridor on the southern edge of the future mixed-income redevelopment to facilitate emergency access during an acute flooding event and improve east-west neighborhood connectivity. The redevelopment of the site is independent of the stormwater and raised egress improvements.

Need for the EIS

The Proposed Action described above has the potential to significantly affect the quality of the environment and an EIS will therefore be prepared in accordance with the requirements of NEPA and CEPA. Responses to this notice will be used to (1) determine significant environmental issues; (2) assist in developing a range of alternatives to be considered; (3) identify issues that the EIS should address; and (4) identify agencies and other parties that will participate in the EIS process and the basis for their involvement.

Scoping

A joint NEPA/CEPA public scoping meeting on the Draft Scope of Work to prepare the Draft EIS will be held on March 14, 2018 at 6:00 until 9:00 p.m. at the Arnold Bernhard Arts & Humanities Center (first floor), located at 84 Iranistan Avenue, Bridgeport, CT 06601. As noted above, the Draft Scope of Work is available online at: https://resilientbridgeport.com or http://www.ct.gov/doh/cwp/view.asp?a=4513&q=588726. The public scoping meeting location will be accessible to the mobility-impaired. Interpreter services will be available for the hearing or visually impaired upon advance request. The EIS public scoping meeting will provide an opportunity for the public to learn more about the Proposed Action and provide input to the environmental review process. At the meeting, an overview of the Proposed Action and its alternatives will be presented, and members of the public will be invited to comment on the Draft Scope of Work, including the methodologies to be used in developing the environmental analyses in the EIS. Written comments and testimony concerning the Draft Scope of Work will be accepted at this meeting. In accordance with 40 CFR 1501.7, affected Federal, State, and local agencies, any affected Indian tribes, and other interested parties will be sent a scoping notice. In accordance with 24 CFR 58.59, the scoping meeting will be preceded by a notice of public meeting published in the local news media at least 15 days before the hearing date.

Probable Environmental Effects

The EIS will evaluate potential effects from the Proposed Action on: Land Use, Zoning, and Public Policy; Socioeconomic Conditions; Environmental Justice; Open Space; Historic and Cultural Resources; Urban Design and Visual Resources; Natural Resources; Hazardous Materials; Water and Sewer Infrastructure; Transportation; Construction; and Cumulative Effects.

Dated: February 22, 2018.
Neal Rackleff,
Assistant Secretary for Community, Planning and Development.

[FR Doc. 2018-04042 Filed 2-23-18; 4:15 pm]

BILLING CODE 4210-67-P